INTERNATIONAL TRADE COMMISSION

[Investigation No. 337-TA-1257]

Certain Organic Light-Emitting Diode Displays, Components Thereof, and Products Containing Same; Commission Determination Not To Review Two Initial Determinations Terminating the Investigation With Respect to Certain Respondents; Termination of Investigation

AGENCY: U.S. International Trade Commission.

ACTION: Notice.

SUMMARY: Notice is hereby given that the U.S. International Trade Commission (“Commission”) has determined not to review: An initial determination (“ID”) (Order No. 11) issued by the presiding administrative law judge (“ALJ”) partially terminating the investigation with respect to certain respondents; and an ID (Order No. 12) terminating the investigation with respect to the sole remaining respondent and thereby in its entirety. The investigation is hereby terminated.

FOR FURTHER INFORMATION CONTACT: Carl P. Bretscher, Esq., Office of the General Counsel, U.S. International Trade Commission, 500 E Street SW, Washington, DC 20436, telephone (202) 205-2382. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on March 26, 2021, based on a complaint filed by Samsung Display Co. of Gyeonggi-do, Republic of Korea, and Intellectual Keystone Technology LLC of Wilmington, Delaware (collectively, “Complainants”). 86 FR 16237 (March 26, 2021). The complaint, as corrected and supplemented, alleges violations of section 337 of the Tariff Act of 1930, as amended, 19 U.S.C. 1337 (“Section 337”), based on the importation into the United States, sale for importation, or sale within the United States after importation of certain organic light-emitting diode displays, components thereof, and products containing same, by reason of infringement of one or more of the asserted claims of U.S. Patent Nos. 6,845,016; 7,342,177; and 7,230,593. Id. The complaint also alleges that a domestic industry exists. Id.

The Commission's notice of investigation names the following respondents: ASUSTeK Computer, Inc. of Taipei, Taiwan and ASUS Computer International of Fremont, California (collectively, “ASUS”); and JOLED Inc. of Tokyo, Japan (“JOLED”). Id. The Office of Unfair Import Investigations was not named as a party to this investigation. Id.

On May 3, 2021, Complainants filed an unopposed motion to withdraw the complaint with respect to ASUS. On the same date, Complainants and JOLED filed a joint motion to terminate the investigation with respect to JOLED, the sole remaining respondent, due to a settlement agreement and thereby terminate the investigation in its entirety. Both motions were unopposed.

On May 19, 2021, the presiding ALJ issued the two subject IDs. In Order No. 11, the ALJ granted, pursuant to Commission Rule 210.21(a)(1) (19 CFR 210.21(a)(1)), Complainants' unopposed motion to partially terminate the investigation with respect to ASUS based on withdrawal of the allegations in the complaint. Order No. 11 (May 19, 2021). The ID finds that there are no agreements, written or oral, express or implied, between Complainants and ASUS. In Order No. 12, the ALJ granted, pursuant to Commission Rule 210.21(b) (19 CFR 210.21(b)), the joint motion to terminate the investigation with respect to JOLED based on settlement and thereby terminate the investigation in its entirety. The ID finds that there are no other agreements, written or oral, express or implied, between Complainants and JOLED concerning the subject matter of the investigation. In both IDs, the ALJ found there are no extraordinary circumstances that would prevent termination of the investigation and that terminating the investigation will conserve public and private resources and thus benefit the public interest.

No party filed a petition to review either Orders No. 11 or 12.

The Commission has determined not to review the subject IDs. Accordingly, the investigation is terminated with respect to ASUS and JOLED, as well as in its entirety.

The Commission vote for this determination took place on June 8, 2021.

The authority for the Commission's determination is contained in section 337 of the Tariff Act of 1930, as amended (19 U.S.C. 1337), and in Part 210 of the Commission's Rules of Practice and Procedure (19 CFR part 210).

By order of the Commission.
Issued: June 8, 2021.
Lisa Barton,
Secretary to the Commission.

[FR Doc. 2021-12319 Filed 6-10-21; 8:45 am]

BILLING CODE 7020-02-P